DEPARTMENT OF LABOR

Employment and Training Administration

Notice of Determinations Regarding Eligibility To Apply for Worker Adjustment Assistance

In accordance with section 223 of the Trade Act of 1974, as amended, the Department of Labor herein presents summaries of determinations regarding eligibility to apply for trade adjustment assistance for workers (TA-W) issued during the period of June, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,298; Accuride Corp., Columbia, TN

TA-W-38,793; U.S. Intec. Inc., Corvallis, OR

TA-W-39,232; Timber Tech, Inc., Libby, MT

TA-W-38,794 & A; Eric Scott Leathers Limited, Ste. Genevieve, MO and Farmington, MO

TA-W-38,668; Motor Appliance Corp., Washington, MO

In the following cases, the investigation revealed that the criteria for eligibility have not been met for the reasons specified.

Increased imports did not contribute importantly to worker separations at the firm.

TA-W-39,054; Consolidated Loose Leaf, Inf., New York NY

TA-W-39,111; Price Pfister, Injection Molding Dept. Pacoima, CA

TA-W-38,868; PACCAR, Inc., Chillicothe, OH

TA-W-39,383; Tridelta Industries, Inc., Mentor, OH

TA-W-38,627; Clinton Imperial China, Inc., Clinton, IL

TA-W-39,192; Epic Component Co., New Boston, MI

TA-W-39,350; Madill Equipment USA, Kalama, WA

The workers firm does not produce an article as required for certification under Section 222 of the Trade Act of 1974.

TA-W-38,582; Dalil Fashions, Inc., Edison, NJ

TA-W-39,116; Environmental Analytics, Inc., Nassau Bay, TX

TA-W-38,828; Genicom Corp, Document Solutions Co., Div., Waynesboro, VA

TA-W-39,155; Fiera, Inc., Miami, FL

The investigation revealed that criteria (2) has not been met. Sales or production did not decline during the relevant period as required for certification.

TA-W-38,900; Borg Warner Air/Fluid Systems Corp., Water Valley, MS

Affirmative Determinations for Worker Adjustment Assistance

The following certifications have been issued; the date following the company name and location of each determination references the impact date for all workers of such determination.

TA-W-38,947; Falcon Shoe Manufacturing, Lewiston, ME: March 20, 2000.

TA-W-39,243; D and J Apparel, Inc., Albermarle, NC: May 1, 2000.

TA-W-38,995; Penn Metal Stamping, Inc., St., Marys, PA: March 27, 2000.

TA-W-38,805; Lenox Crystal, Mt. Pleasant, PA: February 28, 2000.

TA-W-39,308; Blue Cast Denim Co., Inc., El Paso, TX: May 8, 2000.

TA-W-38,176; The Fashion Group, Lafayette, TN: April 17, 2000.

TA-W-38,852; Lucia, Inc., Winston-Salem, NC: March 2, 2000.

TA-W-38,955; Shepard/Justin, New Bedford, MA: June 16, 2000.

TA-W-39,044; Khan-Lucas Lancaster, Columbia, PA: March 23, 2000.

TA-W-39,043; Pete's 807 Cutting Services, Inc., Hialeah, FL: March 25, 2000.

TA-W-38,635; Georgia Pacific Corp., Kalamazoo, MI: January 19, 2000.

TA-W-39,030; Novo Kniting Co., Mansfield, OH: April 13, 2001.

TA-W-38,628; Crown Hosiery, Hickory, NC: January 11, 2000.

TA-W-39,058; Garden State Cutting Co., Passaic, NJ: March 28, 2000.

TA-W-38,866; Global d/b/a, Appalachian furniture Works, Belington, WV: February 28, 2000.

TA-W-38,952; Keystone Thermometrics Corp., St. Mary's, PA: March 16, 2000.

TA-W-38,888; Geneva Steel, Provo UT, Including Workers at Ainge Enterprises, Inc., Provo, UT: March 7, 2000.

Also, pursuant to Title V of the North American Free Trade Agreement Implementation Act (P.L. 103-182) concerning transitional adjustment assistance hereinafter caled (NAFTA-TAA) and in accordance with Section 250(a), Subchapter D, Chapter 2, Title II, of the Trade Act as amended, the Department of Labor presents summaries of determinations regarding eligibility to apply for NAFTA-TAA issued during the month of June, 2001.

In order for an affirmative determination to be made and a certification of eligibility to apply for NAFTA-TAA the following group eligibility requirements of Section 250 of the Trade Act must be met.

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04607; U.S. Intec, Inc., Corvallis, OR

NAFTA-TAA-04690; Rue Logging, Inc., South Fork, CO

NAFTA-TAA-04792; Novo Knitting Co., Mansfield, OH

NAFTA-TAA-04522; Motor Appliance Corp., Washington, MO

NAFTA-TAA-04924; Madill Equipment USA, Kalama, WA

The investigation revealed that the criteria for eligibility have not been met for the reasons specified.

The workers firm does not produce an article as required for certification under Section 222 of the Trade Act of 1974.

NAFTA-TAA-04856; Fiera, Inc., Miami, FL

NAFTA-TAA-04691; Intex Corp., Career Apparel, Greensboro, NC

Affirmative Determinations NAFTA-TAA

NAFTA-TAA-04776; Southern Tees, Inc., Rockingham, NC: April 12, 2000.

NAFTA-TAA-04809; Technotrim, Stockton, CA: April 10, 2000.

NAFTA-TAA-04672; Bakka International, El Paso, TX, Including Temporary Employees of DSI Teamstaff II Employed at Bakka International, El Paso, TX: March 13, 2000.

NAFTA-TAA-04805; Access Electronics, Inc., Gurness, IL: April 23, 2000.

NAFTA-TAA-04843; D and J Apparel, Inc., Albemarle, NC: May 1, 2000.

NAFTA-TAA-04488; Crown Hosiery, Hickory, NC: January 11, 2000.

NAFTA-TAA-04737; Badger Sportswear, Inc., Fairmont, NC: April 5, 2000.

NAFTA-TAA-04826; Krupp Hoesch Suspensions, Hamilton, OH: April 30, 2000.

NAFTA-TAA-04918; Aavid Thermalloy, LLC, Dallas, TX: May 25, 2000.

NAFTA-TAA-04800; Magnetek, Inc., Madison, AL: May 25, 2000.

NAFTA-TAA-04797; Epic Components Co., New Boston, MI: April 24, 2000.

NAFTA-TAA-04853; Telect, Inc., Liberty Lake, WA: May 10, 2000.

I hereby certify that the aforementioned determinations were issued during the month of June, 2001. Copies of these determinations are available for inspection in Room C-5311, U.S. Department of Labor, 200 Constitution Avenue, N.W., Washington, D.C. 20210 during normal business hours or will be mailed to persons who write to the above address.

Dated: June 18, 2001.
Edward A. Tomchick,
Director, Division of Trade Adjustment Assistance.

[FR Doc. 01-16162 Filed 6-26-01; 8:45 am]

BILLING CODE 4510-30-M